ENVIRONMENTAL PROTECTION AGENCY

[OPP-2003-0087; FRL-7297-2]

Agricultural Worker Protection Program; Notice of Public Workshop

AGENCY: Environmental Protection Agency (EPA).

ACTION: Notice.

SUMMARY: EPA's Office of Pesticide Programs (OPP) will hold a public workshop on the Agricultural Worker Protection Program on March 19, 20, and 21, 2003. The agenda for this workshop is in development and will be posted by March 10, 2003, on EPA's web site. On March 19, the agenda will be devoted to the National Program Assessment of the Agricultural Worker Protection Program, and will include discussions about training, hazard communications, enforcement, and recommendations for the National Worker Protection Program. On March 20 and 21, the agenda will cover various topics including: Benefits assessment process, risk mitigation process, engineering controls and equipment for worker protection, field implementation issues, safety training, and occupational health research.

DATES: The workshop will be held on Wednesday, March 19, 2003, from 9 a.m. to 4:30 p.m.; on Thursday, March 20, 2003, from 8:30 a.m. to 5 p.m.; and Friday, March 21, 2003, from 8:30 a.m. to 3 p.m.

ADDRESSES: The workshop will be held at the Marriot Crystal Gateway (Salons V and VI), 1700 Jefferson Davis Hwy., Arlington, VA (703) 920-3230.

FOR FURTHER INFORMATION CONTACT: Margie Fehrenbach, Office of Pesticide Programs (7501C), Environmental Protection Agency, 1200 Pennsylvania Ave., NW., Washington, DC 20460-0001; telephone number: (703) 308-4775; fax number: (703) 308-4776; e-mail address: fehrenbach.margie@epa.gov.

SUPPLEMENTARY INFORMATION:

I. General Information

A. Does this Action Apply to Me?

This action is directed to the public in general; however, persons may be interested who work in agricultural settings or persons who are concerned about implementation of the Federal Insecticide, Fungicide, and Rodenticide Act (FIFRA); the Federal Food, Drug, and Cosmetic Act (FFDCA); and the amendments to both of these major pesticide laws by the Food Quality Protection Act of 1996 (FQPA) (Public Law 104-170). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0087. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. The agenda for this workshop is in development and will be posted by March 10, 2003, on EPA's web site at http://www.epa.gov/pesticides/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

Stakeholders from two of EPA's Federal advisory committees, the Pesticide Program Dialogue Committee (PPDC) and the Committee to Advise on Reassessment and Transition (CARAT), have expressed interest in better understanding the process followed by OPP when developing agricultural worker risk assessments and the overall Agricultural Worker Protection Program. EPA planned two workshops to address these issues. The first was held in October 2002 and focused on the worker risk assessment process for agricultural handlers and post applicators. The second workshop will focus the first day on the National Program Assessment of the Agricultural Worker Protection Program, and will include discussions about training, hazard communication, enforcement and recommendations for the National Worker Protection Program. The agenda for the second and third day will cover various topics including: Benefits assessment process, risk mitigation process, engineering controls and equipment for worker protection, field implementation issues, safety training and occupational health research. The public is invited to this workshop. Participation from the two Federal advisory committees is also invited, representing the following sectors: Pesticide user, grower, and commodity groups; industry and trade associations; environmental/public interest and farmworker groups; Federal, State, and Tribal governments; public health organizations; animal welfare; and academia.

III. How Can I Participate in this Workshop?

An opportunity will be provided for questions and comments by the public. Any person who wishes to submit a written statement may do so at the workshop. All public comments will become part of the public record and will be available for public inspection.

List of Subjects

Environmental protection, Agriculture, Agricultural workers, Chemicals, Foods, Pesticides and pests.

Dated: March 5, 2003.
Marcia E. Mulkey,
Director, Office of Pesticide Programs.

[FR Doc. 03-5906 Filed 3-10-03; 2:01 pm]

BILLING CODE 6560-50-S